NUCLEAR REGULATORY COMMISSION

[Docket No. 50-219]

AmerGen Energy Company, LLC; Notice of Consideration of Issuance of Amendment to Facility Operating License, Proposed No Significant Hazards Consideration Determination, and Opportunity for a Hearing

The U.S. Nuclear Regulatory Commission (the Commission) is considering issuance of an amendment to Facility Operating License No. DPR-16 issued to AmerGen Energy Company, LLC (the licensee) for operation of the Oyster Creek Nuclear Generating Station located in Ocean County, New Jersey.

The proposed amendment would delete the reporting requirement for the core spray sparger inspection.

Before issuance of the proposed license amendment, the Commission will have made findings required by the Atomic Energy Act of 1954, as amended (the Act) and the Commission's regulations.

The Commission has made a proposed determination that the amendment request involves no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. As required by 10 CFR 50.91(a), the licensee has provided its analysis of the issue of no significant hazards consideration, which is presented below:

1. Will operation of the facility in accordance with the proposed amendment involve a significant increase in the probability or consequences of an accident previously evaluated?

This change does not add components or make any other physical change to the plant. The change involves inspection methodology. In the SER supporting Amendment 70 to the Oyster Creek Technical Specifications, dated January 26, 1984, the staff required that future inspections of all accessible surfaces and welds of both core spray spargers and repair assemblies be performed at each refueling outage. In order to ensure that meaningful comparisons with previous inspections could be made, the staff required such inspections be performed in accordance with a method acceptable to them. To comply with that requirement, prior to each refueling outage, Oyster Creek submitted a detailed inspection plan. On December 2, 1999, the NRC staff issued an SER which approved the methodology contained in “BWR [Boiling-Water Reactor] Vessel and Internals Project BWR Core Spray Internals Inspection and Flaw Evaluation Guidelines” (BWRVIP-18). Oyster Creek was an active participant in the development of the guidelines and has committed to use them as a License condition. In addition, the inspection results will be submitted to the NRC as part of the ASME [American Society of Mechanical Engineers] Section XI ISI [Inservice Inspection] Summary as required by the BWRVIP-18 Guidelines. The probability of an accident is not increased by this change of inspection methodology.

With no physical changes to the plant or any operating parameter and the use of a formally approved inspection methodology, the consequences of any postulated accident are not increased.

2. Will operation of the facility in accordance with the proposed amendment create the possibility of a new or different [kind of] accident from any accident previously evaluated?

The core spray spargers and the other components of the Core Spray System will not be modified by this change. The function of the Core Spray System is to provide an alternate supply of cooling water, that is independent of the Feedwater System, in the event of an accident. This change will incorporate into the Oyster Creek License a commitment to inspect the core spray spargers and other reactor internals during each refueling outage in accordance with a methodology approved for all BWRs by the NRC. The function and operation of the Core Spray System are not affected by this change in inspection methodology. Therefore, the possibility of a new or different [kind of] accident not previously analyzed is not created.

3. Will operation of the facility in accordance with the proposed amendment involve a significant reduction in a margin of safety?

In the SER supporting Amendment 47 to the Oyster Creek Technical Specifications, dated May 15, 1980, the staff found the licensee's design and installation of the repair bracket assemblies were in accordance with currently accepted engineering practices. Further, the analyses of the structural loads imposed by static, seismic and thermal loadings demonstrated the bracket assembly's ability to limit the crack opening to within an acceptable range should an existing crack propagate around the pipe circumference. The inspection requirement was imposed to ensure that any new cracks or propagation of existing cracks would be discovered as soon as possible so corrective action could be taken. This change does not affect the interval between inspections but imposes a standardized, comprehensive methodology approved by the NRC. Therefore, the proposed change does not involve a significant reduction in the margin of safety.

The NRC staff has reviewed the licensee's analysis and, based on this review, it appears that the three standards of 10 CFR 50.92(c) are satisfied. Therefore, the NRC staff proposes to determine that the amendment request involves no significant hazards consideration.

The Commission is seeking public comments on this proposed determination. Any comments received within 30 days after the date of publication of this notice will be considered in making any final determination.

Normally, the Commission will not issue the amendment until the expiration of the 30-day notice period. However, should circumstances change during the notice period such that failure to act in a timely way would result, for example, in derating or shutdown of the facility, the Commission may issue the license amendment before the expiration of the 30-day notice period, provided that its final determination is that the amendment involves no significant hazards consideration. The final determination will consider all public and State comments received. Should the Commission take this action, it will publish in the Federal Register a notice of issuance and provide for opportunity for a hearing after issuance. The Commission expects that the need to take this action will occur very infrequently.

Written comments may be submitted by mail to the Chief, Rules and Directives Branch, Division of Administrative Services, Office of Administration, U.S. Nuclear Regulatory Commission, Washington, DC 20555-0001, and should cite the publication date and page number of this Federal Register notice. Written comments may also be delivered to Room 6D59, Two White Flint North, 11545 Rockville Pike, Rockville, Maryland, from 7:30 a.m. to 4:15 p.m. Federal workdays. Copies of written comments received may be examined at the NRC Public Document Room, the Gelman Building, 2120 L Street, NW., Washington, DC.

The filing of requests for hearing and petitions for leave to intervene is discussed below.

By October 23, 2000, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR Part 2. Interested persons should consult a current copy of 10 CFR 2.714 which is available at the Commission's Public Document Room, the Gelman Building, 2120 L Street, NW., Washington, DC, and accessible electronically through the ADAMS Public Electronic Reading Room link at the NRC Web site (http://www.nrc.gov). If a request for a hearing or petition for leave to intervene is filed by the above date, the Commission or an Atomic Safety and Licensing Board, designated by the Commission or by the Chairman of the Atomic Safety and Licensing Board Panel, will rule on the request and/or petition; and the Secretary or the designated Atomic Safety and Licensing Board will issue a notice of hearing or an appropriate order.

As required by 10 CFR 2.714, a petition for leave to intervene shall set forth with particularity the interest of the petitioner in the proceeding, and how that interest may be affected by the results of the proceeding. The petition should specifically explain the reasons why intervention should be permitted with particular reference to the following factors: (1) The nature of the petitioner's right under the Act to be made party to the proceeding; (2) the nature and extent of the petitioner's property, financial, or other interest in the proceeding; and (3) the possible effect of any order which may be entered in the proceeding on the petitioner's interest. The petition should also identify the specific aspect(s) of the subject matter of the proceeding as to which petitioner wishes to intervene. Any person who has filed a petition for leave to intervene or who has been admitted as a party may amend the petition without requesting leave of the Board up to 15 days prior to the first prehearing conference scheduled in the proceeding, but such an amended petition must satisfy the specificity requirements described above.

Not later than 15 days prior to the first prehearing conference scheduled in the proceeding, a petitioner shall file a supplement to the petition to intervene which must include a list of the contentions which are sought to be litigated in the matter. Each contention must consist of a specific statement of the issue of law or fact to be raised or controverted. In addition, the petitioner shall provide a brief explanation of the bases of the contention and a concise statement of the alleged facts or expert opinion which support the contention and on which the petitioner intends to rely in proving the contention at the hearing. The petitioner must also provide references to those specific sources and documents of which the petitioner is aware and on which the petitioner intends to rely to establish those facts or expert opinion. Petitioner must provide sufficient information to show that a genuine dispute exists with the applicant on a material issue of law or fact. Contentions shall be limited to matters within the scope of the amendment under consideration. The contention must be one which, if proven, would entitle the petitioner to relief. A petitioner who fails to file such a supplement which satisfies these requirements with respect to at least one contention will not be permitted to participate as a party.

Those permitted to intervene become parties to the proceeding, subject to any limitations in the order granting leave to intervene, and have the opportunity to participate fully in the conduct of the hearing, including the opportunity to present evidence and cross-examine witnesses.

If a hearing is requested, the Commission will make a final determination on the issue of no significant hazards consideration. The final determination will serve to decide when the hearing is held.

If the final determination is that the amendment request involves no significant hazards consideration, the Commission may issue the amendment and make it immediately effective, notwithstanding the request for a hearing. Any hearing held would take place after issuance of the amendment.

If the final determination is that the amendment request involves a significant hazards consideration, any hearing held would take place before the issuance of any amendment.

A request for a hearing or a petition for leave to intervene must be filed with the Secretary of the Commission, U.S. Nuclear Regulatory Commission, Washington, DC 20555-0001, Attention: Rulemakings and Adjudications Staff, or may be delivered to the Commission's Public Document Room, the Gelman Building, 2120 L Street, NW., Washington, DC, by the above date. A copy of the petition should also be sent to the Office of the General Counsel, U.S. Nuclear Regulatory Commission, Washington, DC 20555-0001, and to Kevin P. Gallen, Esquire, Morgan, Lewis & Bockius LLP, 1800 M Street NW., Washington, DC 20036-5869, attorney for the licensee.

Nontimely filings of petitions for leave to intervene, amended petitions, supplemental petitions and/or requests for hearing will not be entertained absent a determination by the Commission, the presiding officer or the presiding Atomic Safety and Licensing Board that the petition and/or request should be granted based upon a balancing of the factors specified in 10 CFR 2.714(a)(1)(i)-(v) and 2.714(d).

For further details with respect to this action, see the application for amendment dated March 21, 2000, as supplemented on June 14, 2000, which is available for public inspection at the Commission's Public Document Room, the Gelman Building, 2120 L Street, NW., Washington, DC, and accessible electronically through the ADAMS Public Electronic Reading Room link at the NRC Web site (http://www.nrc.gov).

Dated at Rockville, Maryland, this 18th day of September 2000.
For the Nuclear Regulatory Commission.
Helen N. Pastis,
Senior Project Manager, Section 1, Project Directorate I Division of Licensing Project Management, Office of Nuclear Reactor Regulation.

[FR Doc. 00-24440 Filed 9-21-00; 8:45 am]

BILLING CODE 7590-01-P